DEPARTMENT OF COMMERCE

International Trade Administration

A-570-848

Freshwater Crawfish Tail Meat from the People's Republic of China: Extension of Time Limit for Preliminary Results of Antidumping Duty Administrative Review

AGENCY: Import Administration, International Trade Administration, Department of Commerce.

ACTION: Notice of extension of time limit for preliminary results of antidumping duty administrative review.

EFFECTIVE DATE: May 31, 2005.

FOR FURTHER INFORMATION CONTACT: Scot Fullerton at (202) 482-7386 Benjamin Kong at (202) 482-7907; AD/CVD Operations, Office 9, Import Administration, International Trade Administration, U.S. Department of Commerce, 14th Street and Constitution Avenue, NW, Washington, DC 20230.

SUPPLEMENTARY INFORMATION: Background

The Department of Commerce (“the Department”) published in the Federal Register an antidumping duty order on freshwater crawfish tail meat from the People's Republic of China (“PRC”) on September 15, 1997. See Notice of Amendment to Final Determination of Sales at Less Than Fair Value and Antidumping Duty Order: Freshwater Crawfish Tail Meat from the People's Republic of China, 62 FR 48218 (September 15, 1997). Based on timely requests from various interested parties, the Department initiated an administrative review of the antidumping duty order on freshwater crawfish tail meat from the PRC for the period of September 1, 2003, through August 31, 2004 covering the following companies: China Kingdom International; Qingdao Jinyongxiang Aquatic Foods Co., Ltd. (“JYX Aquatic”); Qingdao Xiyuan Refrigerate Food Co., Ltd. (“Qingdao Xiyuan”); Weishan Zhenyu Foodstuff Co., Ltd.; Yancheng Hi-King Agriculture Developing Co., Ltd; and Yancheng Yaou Seafood Co., Ltd. See Initiation of Antidumping and Countervailing Duty Administrative Reviews, 69 FR 62022 (October 22, 2004). The Department rescinded the reviews of Qingdao Xiyuan and JYX Aquatic on February 11, 2005, and March 31, 2005, respectively. See Freshwater Crawfish Tail Meat from the People's Republic of China: Partial Rescission of Antidumping Duty Administrative Review, 70 FR 7232 (February 11, 2005); and Freshwater Crawfish Tail Meat from the People's Republic of China: Partial Rescission of Antidumping Duty Administrative Review, 70 FR 16484 (March 31, 2005). Pursuant to section 751(a)(3)(A) of the Tariff Act of 1930, as amended, (“the Act” the Department shall issue the preliminary results of an administrative review within 245 days after the last day of the anniversary month of the order. The Act further provides, however, that the Department may extend the deadline for completion of the preliminary results of review from 245 to 365 days if it determines that it is not practicable to complete the review within the 245-day time period. See also section 351.213(h)(2) of the Department's regulations.

Extension of Time Limits for Preliminary Results

The preliminary results are currently due no later than June 2, 2005. The Department finds that it is not practicable to complete the preliminary results of this administrative review within this time limit because it needs additional time to analyze the questionnaire responses, issue appropriate supplemental questionnaires and conduct verifications. In particular, the Department finds it necessary to conduct verification during the production season of freshwater crawfish tail meat, which is May through September. Therefore, in accordance with section 751(a)(3)(A) of the Act and section 351.213(h)(2) of the Department's regulations, the Department is extending the time limit for the completion of these preliminary results until no later than September 30, 2005. The deadline for the final results of the administrative review continues to be 120 days after the date the publication of the preliminary results, unless extended.

This notice is issued and published in accordance with section 751(a)(3)(A) of the Act.

Dated: May 24, 2005.
Barbara E. Tillman,
Acting Deputy Assistant Secretary for Import Administration.

[FR Doc. E5-2741 Filed 5-27-05; 8:45 am]

BILLING CODE 3510-DS-S